DEPARTMENT OF THE TREASURY

Bureau of Alcohol, Tobacco and Firearms

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Bureau of Alcohol, Tobacco and Firearms within the Department of the Treasury is soliciting comments concerning the Report—Proprietor of Export Warehouse.

DATES: Written comments should be received on or before July 29, 2002 to be assured of consideration.

ADDRESSES: Direct all written comments to Alcohol, Tobacco and Firearms, Linda Barnes, 650 Massachusetts Avenue, NW., Washington, DC 20226, (202) 927-8930.

FOR FURTHER INFORMATION CONTACT: Requests for additional information or copies of the form(s) and instructions should be directed to Robert P.

Ruhf, Regulations Division, 650 Massachusetts Avenue, NW., Washington, DC 20226, (202) 927-8210.

SUPPLEMENTARY INFORMATION: Title: Report—Proprietor of Export Warehouse.

OMB Number: 1512-0115.

Form Number: ATF F 5220.4.

Abstract: Proprietors account for taxable articles on this report. ATF uses this information to ensure that Federal laws and regulations have been complied with and determined taxes have been paid.

Current Actions: ATF F 5220.4, Report—Proprietor of Export Warehouse has been revised. The title of the form has been changed from Monthly Report-Export Warehouse Proprietor to Report—Proprietor of Export Warehouse. The instructions have been revised and ATF believes that the additional instructions will help proprietors better understand the reporting requirements. The revision will also reduce follow-up contact between proprietors and ATF personnel and make reporting consistent between proprietors of export warehouses and proprietors of tobacco products or cigarette papers and tubes. There is a decrease in burden hours due to a decrease in the number of respondents who will complete the form.

Type of Review: Revision.

Affected Public: Business or other for-profit.

Estimated Number of Respondents: 123.

Estimated Total Annual Burden Hours: 1,181.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: May 16, 2002.
William T. Earle,
Assistant Director (Management) CFO.

[FR Doc. 02-13211 Filed 5-24-02; 8:45 am]

BILLING CODE 4810-31-P